DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Billfish Certificate of Eligibility.

Form Number(s): None.

OMB Approval Number: 0648-0216.

Type of Request: Regular submission.

Burden Hours: 43.

Number of Respondents: 200.

Average Hours per Response: Initial dealer information, 20 minutes; subsequent dealer information, 2 minutes.

Needs and Uses: Persons who are first receivers of billfish, except for billfish landed in a Pacific state and remaining in the state of landing, are required to complete a Certificate of Eligibility for Billfish as a condition for the domestic trade of fresh and frozen billfish shipments. The dealers or processors who subsequently receive or possess billfish must retain a copy of the Certificate of Eligibility for Billfish while processing the billfish. The purpose of this requirement is to ensure that Atlantic billfish are retained as a recreational resource, and that any billfish entering the commercial trade have not been harvested from the Atlantic Ocean management unit.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at: dHynek@doc.gov).

Written comments and recommendations for the proposed information collection should be sent within 30 days of publication of this notice to David Rostker, OMB Desk Officer, fax number (202) 395-7285, or David_Rostker@omb.eop.gov.

Dated: March 19, 2008.
Gwellnar Banks,
Management Analyst, Office of the Chief Information Officer.

[FR Doc. E8-5872 Filed 3-21-08; 8:45 am]

BILLING CODE 3510-22-P